DEPARTMENT OF COMMERCE

National Oceanic and Atmospheric Administration

[I.D. 102505A]

Endangered Species; File No. 1450

AGENCY: National Marine Fisheries Service (NMFS), National Oceanic and Atmospheric Administration (NOAA), Commerce.

ACTION: Notice; issuance of permit.

SUMMARY: Notice is hereby given that Jane Provancha, Dynamac Corporation, 100 Spaceport Way, Cape Canaveral, FL 32920, has been issued a permit to take green (Chelonia mydas) and loggerhead (Caretta caretta) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521;

Southeast Region, NMFS, 263 13th Ave South, St. Petersburg, FL 33701; phone (727)824-5312; fax (727)824-5309.

FOR FURTHER INFORMATION CONTACT: Amy Hapeman or Carrie Hubard, (301)713-2289.

SUPPLEMENTARY INFORMATION: On January 26, 2004, notice was published in the Federal Register (69 FR 3568) that a request for a scientific research permit to take green and loggerhead sea turtles had been submitted by the above-named individual. The requested permit has been issued under the authority of the Endangered Species Act of 1973, as amended (ESA; 16 U.S.C. 1531 et seq.) and the regulations governing the taking, importing, and exporting of endangered and threatened species (50 CFR parts 222-226).

The permit holder has been authorized to conduct research on green and loggerhead sea turtles in the waters of Mosquito Lagoon, Florida. Turtles will be captured in a large mesh (9 in/22 cm) tangle net and retained on a vessel for the collection of morphometric data, flipper and PIT tagging, photographs, blood sampling, lavage, and release. Forty sub-adult green and 15 loggerhead sea turtles of all sexes will be captured annually. Twelve of the 40 captured green sea turtles will have sonic transmitters glued to the carapace. The purpose of the research will be to provide a basic understanding of the abundance, location, and movement of sea turtles within the research area. The duration of this permit is five years.

Issuance of this permit, as required by the ESA, was based on a finding that such permit (1) was applied for in good faith, (2) will not operate to the disadvantage of any endangered or threatened species, and (3) is consistent with the purposes and policies set forth in section 2 of the ESA.

Dated: October 25, 2005.
Patrick Opay,
Acting Chief, Permits, Conservation and Education Division, Office of Protected Resources, National Marine Fisheries Service.

[FR Doc. 05-21619 Filed 10-28-05; 8:45 am]

BILLING CODE 3510-22-S